DEPARTMENT OF DEFENSE

Department of the Air Force

[Docket ID USAF-2009-0059]

Privacy Act of 1974; System of Records

AGENCY: Department of the Air Force, DoD.

ACTION: Notice to delete a system of records.

SUMMARY: The Department of the Air Force is deleting a system of records notice in its existing inventory of records systems subject to the Privacy Act of 1974, (5 U.S.C. 552a), as amended.

DATES: This proposed action will be effective without further notice on November 30, 2009 unless comments are received which result in a contrary determination.

ADDRESSES: Send comments to Department of the Air Force Privacy Act Office, Air Force Privacy Act Office, Office of War fighting Integration and Chief Information Officer, Attn: SAF/XCPPI, 1800 Air Force Pentagon, Washington DC 20330-1800

FOR FURTHER INFORMATION CONTACT: Mr. Ben Swilley at 703-696-6172.

SUPPLEMENTARY INFORMATION: The Department of the Air Force system of records notices subject to the Privacy Act of 1974, (5 U.S.C. 552a), as amended, have been published in the Federal Register and are available from the address above.

The Department of the Air Force proposes to delete one system of records notice from its inventory of record systems subject to the Privacy Act of 1974 (5 U.S.C. 552a), as amended. The proposed deletion is not within the purview of subsection (r) of the Privacy Act of 1974, (5 U.S.C. 552a), as amended, which requires the submission of a new or altered system report.

Dated: October 23, 2009.
Patricia L. Toppings,
OSD Federal Register Liaison Officer, Department of Defense.

DELETION: F036 USAFA M

SYSTEM NAME:

Thomas D. White National Defense Award (April 12, 1999, 64 FR 17636)

REASON:

Information in this system is no longer being retrieved by a personal identifier; data is being retrieved by group identification. Therefore, this notice should be deleted.

[FR Doc. E9-26034 Filed 10-28-09; 8:45 am]

BILLING CODE 5001-06-P